DEPARTMENT OF LABOR

Occupational Safety and Health Administration

[Docket No. NRTL-1-93]

Wyle Laboratories, Inc.; Application for Renewal of Recognition

AGENCY: Occupational Safety and Health Administration (OSHA), Labor.

ACTION: Notice.

SUMMARY: This notice announces the application of Wyle Laboratories, Inc. (Wyle), for renewal of its recognition as a Nationally Recognized Testing Laboratory (NRTL) under 29 CFR 1910.7, and presents the Agency's preliminary finding. This preliminary finding does not constitute an interim or temporary approval of this application.

DATES: Comments submitted by interested parties must be received no later than May 5, 2000.

ADDRESSES: Send comments concerning this notice to: Office of Technical Programs and Coordination Activities, NRTL Program, Occupational Safety and Health Administration, U.S. Department of Labor, 200 Constitution Avenue, NW, Room N3653, Washington, D.C. 20210.

FOR FURTHER INFORMATION CONTACT: Bernard Pasquet, Office of Technical Programs and Coordination Activities, NRTL Program at the above address, or phone (202) 693-2110.

Notice of Application

The Occupational Safety and Health Administration (OSHA) hereby gives notice that Wyle Laboratories, Inc. (Wyle), has applied for renewal of its current recognition as a Nationally Recognized Test Laboratory (NRTL). Wyle requests renewal for its existing scope of recognition.

OSHA recognition of an NRTL signifies that the organization has meet the legal requirements in § 1910.7 of Title 29, Code of Federal Regulations (29 CFR 1910.7). Recognition is an acknowledgement that the organization can perform independent safety testing and certification of the specific products covered within its scope of recognition, and is not a delegation or grant of government authority. As a result of recognition, OSHA can accept products “properly certified” by the NRTL. OSHA processes applications related to an NRTL's recognition following requirements in Appendix A to 29 CFR 1910.7. This appendix requires that the Agency publish this public notice of the preliminary finding on an application.

The most recent notices published by OSHA for Wyle's recognition covered an expansion of recognition for additional test standards and programs, which OSHA announced on July 12, 1996 (61 FR 36764) and granted on November 20, 1996 (61 FR 59115). The only other notices that OSHA has published for Wyle covered its initial recognition, which OSHA announced on January 6, 1994 (59 FR 783) and granted on July 22, 1994 (59 FR 37509). The renewal would incorporate all recognitions granted to Wyle through the date of publication of this preliminary finding.

The current address of the Wyle facility recognized by OSHA is: Wyle Laboratories, 7800 Highway 20 West, P.O. Box 077777, Huntsville, Alabama 35807.

General Background on the Applicant and the Application

Wyle has submitted a request, dated August 19, 1998 (see Exhibit 15), to renew its recognition as an NRTL. The letter requested renewal for its existing scope of recognition, which includes the facility listed above, and 122 test standards and 8 supplemental programs. However,some of the test standards for which Wyle is currently recognized have been withdrawn by the standards developing organization. As appropriate, OSHA has eliminated or replace these test standards in the list shown below.

Wyle was first recognized as an NRTL in 1994 and, at the time, it was part of Wyle Laboratories, a publicly-held corporation first established in 1949. In 1995, Wyle informed OSHA (see Exhibit 13) that it had become a “privately held company incorporated in the State of Delaware.” The “new” company name was also “Wyle Laboratories.” In 1997, the NRTL informed OSHA of the sale of its “Electronic Enclosures Division,” and requested that OSHA remove a condition that the Agency had imposed in the notice of Wyle's recognition. This condition excluded from the recognition any testing and certification of an “enclosure cabinet manufactured or distributed by Wyle.” OSHA granted this request on January 16, 1998 (63 FR 2700).

Test Standards

Wyle seeks renewal of its recognition for testing and certification of products to demonstrate compliance to the following one hundred thirty nine (139 test standards, all of which OSHA has determined are appropriate, as prescribed by 29 CFR 1910.7(c). As mentioned, some of these standards are substitutes for the test standard that OSHA originally recognized for Wyle. As is the case for any NRTL, Wyle's recognition for a particular test standard is limited to equipment or materials (i.e., products) for which OSHA standards require third party testing and certification before use in the workplace. As a result, OSHA's recognition of an NRTL for a test standard excludes any product(s), falling within the scope of the test standard, for which OSHA has no such requirements.

ANSI/UL 8 Foam Fire Extinguishers

ANSI/UL 20 General-Use Snap Switches

ANSI/UL 22 Amusement and Gaming Machines

ANSI/UL 44 Rubber-Insulated Wires and Cables

ANSI/UL 45 Portable Electric Tools

ANSI/UL 48 Electric Signs

ANSI/UL 62 Flexible Cord and Fixture Wire

ANSI/UL 65 Wired Cabinets

ANSI/UL 67 Panelboards

ANSI/UL 73 Motor-Operated Appliances

ANSI/UL 83 Thermoplastic-Insulated Wires and Cables

ANSI/UL 92 Fire Extinguisher and Booster Hose

ANSI/UL 98 Enclosed and Dead-Front Switches

ANSI/UL 153 Portable Electric Lamps

ANSI/UL 154 Carbon-Dioxide Fire Extinguishers

ANSI/UL 187 X-Ray Equipment

ANSI/UL 198B Class H Fuses

ANSI/UL 199C High-Interrupting-Capacity Fuses, Current-Limiting Types

ANSI/UL 198D Class K Fuses

ANSI/UL 198E Class R Fuses

ANSI/UL 198F Plug Fuses

ANSI/UL 198G Fuse for Supplementary Overcurrent Protection

ANSI/UL 198H Class T Fuses

ANSI/UL 198L DC Fuses for Industrial Use

ANSI/UL 244A Solid-State Controls for Appliances

ANSI/UL 299 Dry Chemical Fire Extinguishers

ANSI/UL 363 Knife Switches

ANSI/UL 393 Indicating Pressure Gauges for Fire-Protection Service

ANSI/UL 429 Electrically Operated Values

UL 444 Communications Cables

ANSI/UL 466 Electric Scales

ANSI/UL 467 Grounding and Bonding Equipment

ANSI/UL 484 Room Air Conditioners

ANSI/UL 486B Wire Connectors for Use With Aluminum Conductors

ANSI/UL 486C Splicing Wire Connectors

ANSI/UL 486D Insulated Wire Connectors for Use with Underground Conductors

ANSI/UL 489 Molded-Case Circuit Breakers and Circuit-Breaker Enclosures

ANSI/UL 497A Secondary Protectors for Communication Circuits

ANSI/UL 498 Attachment Plugs and Receptacles

ANSI/UL 499 Electric Heating Appliances

ANSI/UL 506 Specialty Transformers

ANSI/UL 507 Electric Fans

ANSI/UL 508 Industrial Control Equipment

ANSI/UL 510 Insulating Tape

ANSI/UL 512 Fuseholders

ANSI/UL 539 Single and Multiple Station Heat Detectors

ANSI/UL 541 Refrigerated Vending Machines

UL 544 Electric Medical and Dental Equipment

ANSI/UL 626 2½Gallon Stored-Pressure Water-Type Fire Extinguishers

ANSI/UL 698 Industrial Control Equipment for Use in Hazardous (Classified) Locations

ANSI/UL 711 Rating and Fire Testing of Fire Extinguishers

ANSI/UL 745-1 Portable Electric Tools

ANSI/UL 745-2 Particular Requirements of Drills

ANSI/UL 745-2-2 Particular Requirements for Screwdrivers and Impact Wrenches

ANSI/UL 745-2-3 Particular Requirements for Grinders, Polishers, and Disk-Type Sanders

ANSI/UL 745-2-4 Particular Requirements for Sanders

ANSI/UL 745-2-5 Particular Requirements for Circular Saws and Circular Knives

ANSI/UL 745-2-6 Particular Requirements for Hammers

ANSI/UL 745-2-8 Particular Requirements for Shears and Nibblers

ANSI/UL 745-2-9 Particular Requirements for Tappers

ANSI/UL 745-2-11 Particular Requirements for Reciprocating Saws

ANSI/UL 745-2-12 Particular Requirements for Concrete Vibrators

ANSI/UL 745-2-14 Particular Requirements for Planers

ANSI/UL 745-2-17 Particular Requirements for Routers and Trimmers

ANSI/UL 745-2-30 Particular Requirements for Staplers

ANSI/UL 745-2-31 Particular Requirements for Diamond Core Drills

ANSI/UL 745-2-32 Particular Requirements for Magnetic Drill Presses

ANSI/UL 745-2-33 Particular Requirements for Portable Bandsaws

ANSI/UL 745-2-34 Particular Requirements for Strapping Tools

ANSI/UL 745-2-35 Particular Requirements for Drain Cleaners

ANSI/UL 745-2-36 Particular Requirements for Hand Motor Tools

ANSI/UL 745-2-37 Particular Requirements for Plate Jointer

ANSI/UL 796 Printed-Wiring Boards

ANSI/UL 813 Commercial Audio Equipment

ANSI/UL 817 Cord Sets and Power-Supply Cords

ANSI/UL 845 Motor Control Centers

ANSI/UL 854 Service-Entrance Cables

ANSI/UL 863 Time-Indicating and -Recording Appliances

ANSI/UL 877 Circuit Breakers and Circuit-Breaker Enclosure for Use in Hazardous (Classified) Locations

ANSI/UL 894 Switches for Use Hazardous (Classified) Locations

ANSI/UL 916 Energy Management Equipment

ANSI/UL 917 Clock-Operated Switches

ANSI/UL 924 Emergency Lighting and Power Equipment

ANSI/UL 943 Ground-Fault Circuit-Interrupters

ANSI/UL 961 Electric Hobby and Sports Equipment

ANSI/UL 977 Fused Power-Circuit Devices

ANSI/UL 998 Humidifiers

ANSI/UL 1004 Electric Motors

ANSI/UL 1008 Automatic Transfer Switches

ANSI/UL 1012 Power Supplies

ANSI/UL 1018 Electric Aquarium Equipment

UL 1022 Line Isolation Monitors

ANSI/UL 1028 Hair Clipping and Shaving Appliances

ANSI/UL 1047 Isolated Power Systems Equipment

ANSI/UL 1053 Ground-Fault Sensing and Relaying Equipment

ANSI/UL 1054 Special-Use Switches

ANSI/UL 1058 Halogenated Agent Extinguishing System Units

UL 1059 Terminal Blocks

ANSI/UL 1066 Low-Voltage AC and DC Power Circuit Breakers Used in Enclosures

ANSI/UL 1069 Hospital Signaling and Nurse-Call Equipment

ANSI/UL 1077 Supplementary Protectors for Use in Electrical Equipment

ANSI/UL 1087 Molded-Case Switches

UL 1091 Butterfly Valves for Fire-Protection Service

ANSI/UL 1093 Halogenated Agent Fire Extinguishers

ANSI/UL 1097 Double Insulation Systems for Use in Electrical Equipment

ANSI/UL 1236 Battery Chargers

UL 1244 Electrical and Electronic Measuring and Testing Equipment

ANSI/UL 1254 Pre-Engineered Dry Chemical Extinguishing Systems Units

ANSI/UL 1262 Laboratory Equipment

ANSI/UL 1283 Electromagnetic Interference Filters

ANSI/UL 1310 Class 2 Power Units

ANSI/UL 1411 Transformers and Motor Transformer for Use in ­Audio- Radio-, and Television-Type Appliances

ANSI/UL 1412 Fusing Resistors and Temperature-Limited Resistors for Radio- and Television-Type Appliances

ANSI/UL 1416 Overcurrent and Overtemperature Protectors for Radio- and Television-Type Appliances

ANSI/UL 1424 Cables for Power-Limited Fire-Alarm Circuits

ANSI/UL 1429 Pullout Switches

UL 1437 Electrical Analog Instruments—Panel Board Types

UL 1449 Transient Voltage Surge Suppressors

ANSI/UL 1459 Telephone Equipment

ANSI/UL 1474 Adjustable Drop Nipples for Sprinkler Systems

ANSI/UL 1481 Power Supplies for Fire-Protective Signaling Systems

ANSI/UL 1486 Quick Opening Devices for Dry Pipe Valves for Fire-Protection Service

ANSI/UL 1557 Electrically Isolated Semiconductor Devices

ANSI/UL 1564 Industrial Battery Chargers

ANSI/UL 1570 Fluorescent Lighting Fixtures

ANSI/UL 1571 Incandescent Lighting Fixtures

ANSI/UL 1577 Optical Isolaters

ANSI/UL 1585 Class 2 and Class 3 Transformers

UL 1604 Electrical Equipment for Use in Class I and II, Division 2, and Class III Hazardous (Classified) Locations

ANSI/UL 1664 Immersion-Detection Circuit-Interrupters

ANSI/UL 1673 Electric Space Heating Cables

ANSI/UL 1682 Plugs, Receptacles, and Cable Connectors, of the Pin and Sleeve Type

ANSI/UL 1778 Uninterruptible Power Supply Equipment

UL 1863 Communication Circuit Accessories

ANSI/UL 1876 Isolating Signal and Feedback Transformers for Use in Electronic Equipment

ANSI/UL 1950 Information Technology Equipment, Including Electrical Business Equipment

ANSI/UL 1995 Heating and Cooling Equipment

ANSI/UL 2006 Halon 1211 Recovery/Recharge Equipment

UL 2111 Overheating Protection for Motors

The designations and titles of the above test standards were current at the time of the preparation of this notice.

Programs and Procedures

In its renewal, Wyle also seeks continued use of the supplemental programs listed below, based upon the criteria detailed in the March 9, 1995 Federal Register notice (60 FR 12980, 3/9/95). This notice lists nine (9) programs and procedures (collectively, programs), eight of which (called supplemental programs) an NRTL may use to control and audit, but not actually to generate, the data relied upon for product certification. An NRTL's initial recognition will always include the first or basic program, which requires that all product testing and evaluation be performed in-house by the NRTL that will certify the product. OSHA previously granted Wyle recognition to use these programs, which are listed in OSHA's informational web page on the Wyle recognition.

Program 2: Acceptance of testing data from independent organizations, other than NRTLs.

Program 3: Acceptance of product evaluations from independent organizations, other than NRTLs.

Program 4: Acceptance of witnessed testing data.

Program 5: Acceptance of testing data from non-independent organizations.

Program 6: Acceptance of evaluation data from non-independent organizations (requiring NRTL review prior to marketing).

Program 7: Acceptance of continued certification following minor modifications by the client.

Program 8: Acceptance of product evaluations from organizations that function as part of the International Electrotechnical Commission Certification Body (IEC-CB) Scheme.

Program 9: Acceptance of services other than testing or evaluation performed by subcontractors or agents.

OSHA developed the program descriptions to limit how an NRTL may perform certain aspects of its work and to accept the activities covered under a program only when the NRTL meets certain criteria. In this sense, they are special conditions that the Agency places on an NRTL's recognition. OSHA does not consider these programs in determining whether an NRTL meets the requirements for recognition under 29 CFR 1910.7. However, OSHA does treat these programs as one of the three elements that defines an NRTL's scope of recognition.

Preliminary Finding on the Application

Wyle has submitted an acceptable request for renewal of its recognition as an NRTL. In connection with the request, OSHA performed an on-site assessment (review) of Wyle's facility in Huntsville, Alabama, on August 3-5, 1999. Discrepancies noted by the assessor during the on-site review were addressed by Wyle following the on-site evaluation and are factored into the recommendation in the non-site review report (see Exhibit 16).

Following a review of the application file, the on-site review report, and other pertinent documents, the NRTL Program staff has concluded that OSHA can grant to Wyle the renewal of its recognition as an NRTL to use the facility, test standards, and programs, listed above, with any limitations to be applied as noted. The staff therefore recommended to the Assistant Secretary that the application be preliminarily approved.

Based upon the recommendation of the staff, the Assistant Secretary has made a preliminary finding that the Wyle Laboratories, Inc., can meet the requirements, as prescribed by 29 CFR 1910.7, for renewal of its recognition, subject to any limitations described above. This preliminary finding does not constitute an interim or temporary approval of the application.

OSHA welcomes public comments, in sufficient detail, as to whether Wyle has met the requirements of 29 CFR 1910.7 for renewal of its recognition as a Nationally Recognized Testing Laboratory. Your comment should consist of pertinent written documents and exhibits. To consider a comment, OSHA must receive it at the address provided above (see ADDRESS), no later than the last date for comments (see DATES above). You may obtain or review copies of Wyle's request, the on-site review report, and all submitted comments, as received, by contacting the Docket Office, Room N2625, Occupational Safety and Health Administration, U.S. Department of Labor, at the above address. You should refer to Docket No. NRTL-1-93, the permanent record of public information on the Wyle recognition.

The NRTL Program staff will review all timely comments and, after resolution of issues raised by these comments, will recommend whether to grant Wyle's application for renewal of recognition. The Assistant Secretary will make the final decision on granting the renewal and, in making this decision, may undertake other proceedings prescribed in Appendix A to 29 CFR Section 1910.7. OSHA will publish a public notice of this final decision in the Federal Register.

Signed at Washington, DC this 18th day of February, 2000.
Charles N. Jeffress,
Assistant Secretary.

[FR Doc. 00-5342 Filed 3-3-00; 8:45 am]

BILLING CODE 4510-26-M